DEFENSE NUCLEAR FACILITIES SAFETY BOARD

Sunshine Act Notice

AGENCY: Defense Nuclear Facilities Safety Board.

ACTION: Notice of public meeting.

SUMMARY: Pursuant to the provisions of the Government in the Sunshine Act, 5 U.S.C. 552b, and as authorized by 42 U.S.C. 2286b, notice is hereby given of the Defense Nuclear Facilities Safety Board's public hearing and meeting described below. Interested persons or groups may present comments, technical information, or data concerning safety issues related to the matters to be considered.

TIME AND DATE OF MEETING: 9 a.m., March 31, 2011.

PLACE: Defense Nuclear Facilities Safety Board, Public Hearing Room, 625 Indiana Avenue, NW., Suite 300, Washington, DC 20004-2901. Additionally, as a part of the Board's E-Government initiative, the meeting will be presented live through Internet video streaming. A link to the presentation will be available on the Board's Web site (http://www.dnfsb.gov).

STATUS: Open. While the Government in the Sunshine Act does not require that the scheduled discussion be conducted in a meeting, the Board has determined that an open meeting in this specific case furthers the public interests underlying both the Sunshine Act and the Board's enabling legislation.

MATTERS TO BE CONSIDERED: This is the third in a series of public meetings to examine the Department of Energy's (DOE) implementation of Recommendation 2004-1, Oversight of Complex, High-Hazard Nuclear Operations. The Board is reviewing DOE's and the National Nuclear Security Administration's (NNSA) safety management and oversight of the contracts and contractors they rely upon to accomplish the mission assigned to DOE and NNSA under the Atomic Energy Act of 1954, as amended, at defense nuclear facilities. We will focus on what impact DOE's and NNSA's new initiatives, including changes to DOE directives, contractor oversight, and governance, may have upon assuring adequate protection of the health and safety of the public and workers at DOE's and NNSA's defense nuclear facilities. We are conducting this series of public meetings to collect information needed to understand and address any health or safety concerns that may require Board action.

In the March 31, 2011, meeting the Board will explore in more depth Federal safety management and oversight policies being developed and administered by DOE and NNSA for defense nuclear facilities. DOE and NNSA senior leaders will articulate their views on the role of line and independent oversight to safely accomplish their work at defense nuclear facilities. The Board will examine DOE's and NNSA's evolving approach to federal oversight and its relationship to contractor assurance systems as well as the effect of changes to DOE directives. The public hearing portion of this proceeding is authorized by 42 U.S.C. 2286b.

CONTACT PERSON FOR MORE INFORMATION: Brian Grosner, General Manager, Defense Nuclear Facilities Safety Board, 625 Indiana Avenue, NW., Suite 700, Washington, DC 20004-2901, (800) 788-4016. This is a toll-free number.

SUPPLEMENTARY INFORMATION: Public participation in the hearing is invited. Requests to speak may be submitted in writing or by telephone. The Board asks that commentators describe the nature and scope of their oral presentations. Those who contact the Board prior to close of business on March 30, 2011, will be scheduled for time slots, beginning at approximately 12 p.m. The Board will post a schedule for those speakers who have contacted the Board before the hearing at the entrance to the Public Hearing Room. Anyone who wishes to comment or provide technical information or data may do so in writing, either in lieu of, or in addition to, making an oral presentation. The Board Members may question presenters to the extent deemed appropriate. Documents will be accepted at the meeting or may be sent to the Board's Washington office.

The Board will hold the record open until May 2, 2011, for the receipt of additional materials. A transcript of the meeting will be made available by the Board for inspection by the public at the Board's Washington office and at DOE's public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: February 28, 2011.
Peter S. Winokur,
Chairman.

[FR Doc. 2011-4899 Filed 3-1-11; 4:15 pm]

BILLING CODE 3670-01-P